DEPARTMENT OF STATE

[Public Notice 12002]

SPOG Virtual Public Meeting on Conducting Anti-Trafficking Work Using a Racial Equity Lens

ACTION: Notice of public meeting.

SUMMARY: The Department of State, on behalf of the interagency Senior Policy Operating Group (SPOG), is hosting a virtual public meeting to hear input about how it can conduct its anti-trafficking work using a racial justice and equity lens and to assist the SPOG and SPOG agencies implementation of Advancing Racial Equity and Support for Underserved Communities Through the Federal Government and Further Advancing Racial Equity and Support for Underserved Communities Through the Federal Government. This public meeting is part of the SPOG's ongoing efforts to engage and collaborate with diverse communities and develop an implementation plan for integrating racial equity into U.S. government anti-trafficking efforts and is meant to complement the SPOG's prior request for written information (87 FR 7231) to provide members of the public with another way to share feedback with the U.S. government. The implementation plan will highlight the importance of an intersectional approach, as racism often compounds with other forms of discrimination to affect individuals' vulnerability to human trafficking. Additionally, it will complement agencies' individual work to implement Diversity, Equity, Inclusion and Accessibility in the Federal Workforce by sharing information and practices for increasing diversity in the federal workforce as an integral way to strengthen agencies' anti-trafficking work.

DATES: The SPOG will hold a web-based open public meeting on May 3, 2023, from 1:30 p.m. to 3 p.m. EDT. To attend the public meeting, you must register by April 23, 2023, at 11:59 p.m. EDT.

ADDRESSES: The meeting will be accessible via webcast. To register, go to www.eventbrite.com/e/public-meeting-on-anti-trafficking-work-using-a-racial-equity-lens-tickets-560732535107. Registrants will receive the webcast information on May 1, 2023.

FOR FURTHER INFORMATION CONTACT: Jennifer Ho, (202) 453-8473, TIPOutreach@state.gov.

SUPPLEMENTARY INFORMATION:

Background

The Department of State, on behalf of the SPOG, is hosting a public meeting to seek input, information, and recommendations from a broad array of stakeholders in the public, private, advocacy, not-for-profit, and philanthropic sectors, including state, local, tribal, and territorial areas, on available methods, approaches, and tools to apply a racial equity lens to federal government anti-trafficking efforts. For more information on the SPOG and on definitions for terms used in this Notice, please refer to the Supplementary Information on this page: www.state.gov/request-for-information-on-conducting-anti-trafficking-work-using-a-racial-equity-lens.

The Department welcomes public input that the SPOG can factor into decisions around what specific action items and performance metrics it should include in its implementation plan for integrating a racial equity lens into its anti-trafficking work. This public meeting will begin with brief opening remarks from Department officials. All stakeholders and interested members of the public are welcome to register to provide oral comments; however, based on the meeting duration or topic area constraints, the Department may not be able to allocate time for all registered attendees to provide oral comments during the meeting.

The SPOG is interested in all comments but requests input particularly on any of the following questions for which the stakeholder has direct personal or professional experience:

1. What does racial equity mean in the context of human trafficking? What does a racially equitable anti-trafficking framework look like, particularly for law enforcement and prosecution responses, victim assistance efforts, and prevention strategies? Are there specific considerations for responding to sex trafficking and to labor trafficking?

2. Please describe any racial injustice, inequity, or unfairness you have observed or experienced that resulted from a federal anti-trafficking activity (please specify the relevant policy, practice, or program). Do you have recommendations for how this should be corrected?

3. How have federal anti-trafficking policies, programs, and systems created barriers to advancing racial equity, and how might the executive branch address and help reduce these barriers?

4. What promising approaches or efforts have been successful in embedding a racial equity lens in anti-trafficking work? What examples and/or data are available to support this?

5. What can SPOG agencies do individually or collectively to advance racial equity and integrate it into federal anti-trafficking work domestically and internationally—particularly in the areas of investigation and prosecution, victim services (commenters may specify specific populations, such as people of color, people who are limited English proficient, people with disabilities, noncitizens, LGBTQI+ persons, etc.), grantmaking, public procurement, supply chains, public awareness and outreach, research and data collection, and any other area the submitter feels is important to note?

6. What tools, approaches, or lessons have been applied in other countries or in U.S. state, territorial, tribal, and local jurisdictions to address the intersection between racial, ethnic, linguistic, or cultural discrimination and human trafficking? Could these tools, approaches, or lessons applied by other authorities be helpful to the United States to further racial equity?

7. What are promising practices or strategies for how anti-trafficking policies and programs can address the compounded barriers at the intersections of systemic racism and other forms of discrimination, such as discrimination against persons with disabilities, persons who are limited English proficient, LGBTQI+ persons, and women and girls?

8. Meaningful stakeholder engagement includes being able to understand each other's spoken language, collective problem-solving and decision-making, equitable partnerships, and collaboration that fosters a sharing of power. What processes or approaches should SPOG agencies have in place to proactively and meaningfully engage individuals with lived experience of human trafficking and communities that are most directly impacted by human trafficking? What are tools and best practices that SPOG agencies should consider to embed racial equity practices into community and stakeholder engagement?

Meeting Accommodation Request

For information on language assistance services, services for individuals with disabilities, or to request accommodation of a disability, please contact TIPOutreach@state.gov by April 19, 2023, to give the Department as much time as possible to process the request. Closed captioning and live ASL interpreter services will be available. Determinations for reasonable accommodation will be made on a case-by-case basis.

Cynthia D. Dyer,
Ambassador-at-Large, Office to Monitor and Combat Trafficking in Persons, Department of State.

[FR Doc. 2023-04880 Filed 3-9-23; 8:45 am]

BILLING CODE 4710-11-P